DEPARTMENT OF TRANSPORTATION

Federal Aviation Administration

14 CFR Part 39

[Docket No. FAA-2006-23840; Directorate Identifier 2005-NM-232-AD]

RIN 2120-AA64

Airworthiness Directives; BAE Systems (Operations) Limited Model BAe 146 and Model Avro 146-RJ Airplanes

AGENCY: Federal Aviation Administration (FAA), Department of Transportation (DOT).

ACTION: Notice of proposed rulemaking (NPRM).

SUMMARY: The FAA proposes to adopt a new airworthiness directive (AD) for certain BAE Systems (Operations) Limited Model BAe 146 and Model Avro 146-RJ airplanes. This proposed AD would require modifying the control cable duct on the left bulkhead structure at frame 12, and for certain airplanes, the forward toilet bulkhead structure. This proposed AD results from a structural analysis by the manufacturer which revealed that rapid decompression of the flight compartment with the door closed could cause structural deformation of the left bulkhead structure at frame 12, and of the attached cable duct structure. The duct structure protects the cables for the primary flight controls. We are proposing this AD to prevent deformation of the cable duct structure in the event of a rapid decompression, which could result in restriction of the primary flight controls and consequent reduced controllability of the airplane.

DATES: We must receive comments on this proposed AD by March 13, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact British Aerospace Regional Aircraft American Support, 13850 Mclearen Road, Herndon, Virginia 20171, for service information identified in this proposed AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

We invite you to submit any relevant written data, views, or arguments regarding this proposed AD. Send your comments to an address listed in the ADDRESSES section. Include the docket number “FAA-2006-23840; Directorate Identifier 2005-NM-232-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Civil Aviation Authority (CAA), which is the airworthiness authority for the United Kingdom, notified us that an unsafe condition may exist on certain BAE Systems (Operations) Limited Model BAe 146 and Model Avro 146-RJ airplanes. The CAA advises that a structural analysis by the manufacturer revealed that rapid decompression of the flight compartment with the door closed would cause structural deformation of the left bulkhead structure at frame 12, and the attached cable duct structure. The duct structure protects the cables for the primary flight controls. Deformation of the cable duct structure in the event of a rapid decompression could result in restriction of the primary flight controls and consequent reduced controllability of the airplane.

Relevant Service Information

BAE Systems (Operations) Limited has issued Modification Service Bulletin SB.25-459-36241A, Revision 1, dated March 30, 2005. The service bulletin describes procedures for modifying the control cable duct on the left bulkhead structure at frame 12, and for modifying the forward toilet bulkhead structure. The modification of the control cable duct includes, among other things, installing new, stronger duct structure. The modification of the forward toilet bulkhead includes, among other things, installing new inserts and a new support plate. Accomplishing the actions specified in the service information is intended to adequately address the unsafe condition. The CAA mandated the service information and issued British airworthiness directive G-2005-0026, dated September 21, 2005, to ensure the continued airworthiness of these airplanes in the United Kingdom.

FAA's Determination and Requirements of the Proposed AD

These airplane models are manufactured in the United Kingdom and are type certificated for operation in the United States under the provisions of section 21.29 of the Federal Aviation Regulations (14 CFR 21.29) and the applicable bilateral airworthiness agreement. Pursuant to this bilateral airworthiness agreement, the CAA has kept the FAA informed of the situation described above. We have examined the CAA's findings, evaluated all pertinent information, and determined that we need to issue an AD for airplanes of this type design that are certificated for operation in the United States.

Therefore, we are proposing this AD, which would require accomplishing the actions specified in the service information described previously.

Costs of Compliance

This proposed AD would affect about 19 airplanes of U.S. registry.

The modification specified in Part 1 of the service bulletin would take about 21 work hours per airplane, at an average labor rate of $65 per work hour. Required parts would be free of charge. Based on these figures, the estimated cost of the proposed AD is $1,365 per airplane.

The modification specified in Part 2 of the service bulletin would take about 5 work hours per airplane, at an average labor rate of $65 per work hour. Required parts would be free of charge. Based on these figures, the estimated cost of the proposed AD is $325 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

BAE Systems (Operations) Limited (Formerly British Aerospace Regional Aircraft): Docket No. FAA-2006-23840; Directorate Identifier 2005-NM-232-AD.

Comments Due Date

(a) The FAA must receive comments on this AD action by March 13, 2006.

Affected ADs

(b) None.

Applicability

(c) This AD applies to BAE Systems (Operations) Limited Model BAe 146-100A, -200A, and -300A series airplanes, and Model Avro 146-RJ70A, 146-RJ85A, and 146-RJ100A airplanes; certificated in any category; as identified in BAE Systems (Operations) Limited Modification Service Bulletin SB.25-459-36241A, Revision 1, dated March 30, 2005.

Unsafe Condition

(d) This AD results from a structural analysis by the manufacturer which revealed that rapid decompression of the flight compartment with the door closed could cause structural deformation of the left bulkhead structure at frame 12, and of the attached cable duct structure. The duct structure protects the cables for the primary flight controls. We are issuing this AD to prevent deformation of the cable duct structure in the event of a rapid decompression, which could result in restriction of the primary flight controls and consequent reduced controllability of the airplane.

Compliance

(e) You are responsible for having the actions required by this AD performed within the compliance times specified, unless the actions have already been done.

Modification

(f) Within 9 months after the effective date of this AD: Do the actions specified in either paragraph (f)(1) or (f)(2) of this AD by doing all the applicable actions specified in the Accomplishment Instructions of BAE Systems (Operations) Limited Modification Service Bulletin SB.25-459-36241A, Revision 1, dated March 30, 2005.

(1) For airplanes on which BAE Modification HCM50303C has been installed, but on which BAE Modification HCM30033E, HCM30033F, HCM30033G, or HCM30033N has not been installed: Modify the control cable duct on the left bulkhead structure at frame 12 in accordance with Part 1 of the Accomplishment Instructions of the service bulletin.

(2) For airplanes on which BAE Modification HCM50303C has been installed, and on which BAE Modification HCM30033E, HCM30033F, HCM30033G, or HCM30033N has also been installed: Modify the control cable duct on the left bulkhead structure at frame 12 and the forward toilet bulkhead structure in accordance with Parts 1 and 2 of the Accomplishment Instructions of the service bulletin.

Modifications Accomplished According to Previous Issue of Service Bulletin

(g) Modifications accomplished before the effective date of this AD in accordance with BAE Systems (Operations) Limited Modification Service Bulletin SB.25-459-36241A, dated July 22, 2004, are considered acceptable for compliance with the corresponding action specified in this AD.

Alternative Methods of Compliance (AMOCs)

(h)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(i) British airworthiness directive G-2005-0026, dated September 21, 2005, also addresses the subject of this AD.

Issued in Renton, Washington, on January 31, 2006.
Ali Bahrami,
Manager, Transport Airplane Directorate, Aircraft Certification Service.

[FR Doc. E6-1762 Filed 2-8-06; 8:45 am]

BILLING CODE 4910-13-P